DEPARTMENT OF AGRICULTURE

Forest Service

36 CFR Part 242

DEPARTMENT OF THE INTERIOR

Fish and Wildlife Service

50 CFR Part 100

Subsistence Management Regulations for Public Lands in Alaska, Subpart D; Emergency Closures and Adjustments—Yukon River Drainage

AGENCIES: Forest Service, USDA; Fish and Wildlife Service, Interior.

ACTION: Emergency closures and adjustments.

SUMMARY: This provides notice of the Federal Subsistence Board's in-season management actions to protect chinook and chum salmon escapement in the Yukon River drainage. These regulatory adjustments and the closures provide an exception to the Subsistence Management Regulations for Public Lands in Alaska, published in the Federal Register on February 13, 2001. Those regulations established seasons, harvest limits, methods, and means relating to the taking of fish and shellfish for subsistence uses during the 2001 regulatory year.

DATES: The twenty-eighth Yukon River drainage action is effective September 10, 2001, through November 9, 2001, for Subdistrict 6A; and September 11, 2001, through November 9, 2001, for Subdistrict 5A. See SUPPLEMENTARY INFORMATION for effective dates of the fourth through twenty-seventh Yukon River drainage actions.

FOR FURTHER INFORMATION CONTACT: Thomas H. Boyd, Office of Subsistence Management, U.S. Fish and Wildlife Service, telephone (907) 786-3888. For questions specific to National Forest System lands, contact Ken Thompson, Subsistence Program Manager, USDA—Forest Service, Alaska Region, telephone (907) 786-3592.

SUPPLEMENTARY INFORMATION:

Previously Effective Dates

The fourth Yukon River drainage action was effective June 12, 2001, through August 11, 2001, for Districts 1, 2, and 3. The fifth Yukon River drainage action was effective June 13, 2001, through August 12, 2001, for District 4. The sixth Yukon River drainage action was effective June 19, 2001, through August 18, 2001, for the Coastal District; June 21, 2001, through August 18, 2001, for District 1; June 24, 2001, through August 18, 2001, for District 2; and June 27, 2001, through August 18, 2001, for District 3. The seventh Yukon River drainage action was effective June 22, 2001, through July 30, 2001, for District 5. The eighth Yukon River drainage action was effective June 26, 2001, through August 25, 2001, for Districts 1-4. The ninth Yukon River drainage action was effective June 28, 2001, through August 27, 2001, for District 1; July 1, 2001, through August 27, 2001, for District 2; and July 4, 2001, through August 18, 2001, for District 3. The tenth Yukon River drainage action was effective July 1, 2001, through August 30, 2001, for Subdistrict 4A and July 4, 2001, through August 30, 2001, for Subdistricts 4B and 4C. The eleventh Yukon River drainage action was effective July 1, 2001, through August 30, 2001, for Districts 1, 2, 3, and 4 and Subdistricts 5A, 5B, and 5C. The twelfth Yukon River drainage action was effective July 4, 2001, through September 2, 2001, for the Koyukuk River. The thirteenth Yukon River drainage action was effective July 5, 2001, through September 4, 2001, for District 1 and July 6, 2001, through September 4, 2001, for Districts 2 and 3. The fourteenth Yukon River drainage action was effective July 8, 2001, through September 6, 2001, for Subdistrict 4A and July 11, 2001, through September 6, 2001, for Subdistricts 4B and 4C. The fifteenth Yukon River drainage action was effective July 10, 2001, through September 8, 2001, for Subdistricts 5B and 5C. The sixteenth Yukon River drainage action was effective July 13, 2001, through September 11, 2001, for Subdistrict 5A and July 17, 2001, through September 11, 2001, for Subdistrict 5D. The seventeenth Yukon River drainage action was effective July 20, 2001, through September 18, 2001, for Districts 1, 2, and 3. The eighteenth Yukon River drainage action was effective July 20, 2001, through September 18, 2001, for Subdistrict 5A. The nineteenth Yukon River drainage action was effective July 29, 2001, through September 27, 2001, for District 4 including the Koyukuk River. The twentieth Yukon River drainage action was effective July 27, 2001, through July 30, 2001, for all Federal waters of the Yukon River drainage. The twenty-first Yukon River drainage action was effective August 2, 2001, through October 1, 2001, for Subdistrict 5D and August 3, 2001, through October 1, 2001, for Subdistricts 5A, 5B, and 5C. The twenty-second Yukon River drainage action was effective August 6, 2001, through October 5, 2001, for all Federal waters of the Yukon River drainage. The twenty-third Yukon River drainage action was effective August 6, 2001, through October 5, 2001, for Districts 1-3; August 7, 2001, through October 5, 2001, for Subdistricts 5B and 5C; and August 8, 2001, through October 5, 2001, for District 4. The twenty-fourth Yukon River drainage action was effective August 8, 2001, through October 7, 2001, for District 4; August 9, 2001, through October 7, 2001, for Subdistricts 5B and 5C and Districts 1-3. The twenty-fifth Yukon River drainage action was effective August 9, 2001, through October 9, 2001, for Subdistrict 5A. The twenty-sixth Yukon River drainage action was effective August 10, 2001, rescinding the twenty-second Yukon River action for Districts 1-6. The twenty-seventh Yukon River drainage action is effective August 20, 2001, through October 19, 2001, for Subdistrict 6A; and August 21, 2001, through October 19, 2001, for Subdistrict 5A.

Background

Title VIII of the Alaska National Interest Lands Conservation Act (ANILCA) (16 U.S.C. 3111-3126) requires that the Secretary of the Interior and the Secretary of Agriculture (Secretaries) implement a joint program to grant a preference for subsistence uses of fish and wildlife resources on public lands in Alaska, unless the State of Alaska enacts and implements laws of general applicability that are consistent with ANILCA and that provide for the subsistence definition, preference, and participation specified in Sections 803, 804, and 805 of ANILCA. In December 1989, the Alaska Supreme Court ruled that the rural preference in the State subsistence statute violated the Alaska Constitution and, therefore, negated State compliance with ANILCA.

The Department of the Interior and the Department of Agriculture (Departments) assumed, on July 1, 1990, responsibility for implementation of Title VIII of ANILCA on public lands. The Departments administer Title VIII through regulations at Title 50, Part 100 and Title 36, Part 242 of the Code of Federal Regulations (CFR). Consistent with Subparts A, B, and C of these regulations, as revised January 8, 1999, (64 FR 1276), the Departments established a Federal Subsistence Board to administer the Federal Subsistence Management Program. The Board's composition includes a Chair appointed by the Secretary of the Interior with concurrence of the Secretary of Agriculture; the Alaska Regional Director, U.S. Fish and Wildlife Service; the Alaska Regional Director, National Park Service; the Alaska State Director, Bureau of Land Management; the Alaska Regional Director, Bureau of Indian Affairs; and the Alaska Regional Forester, USDA Forest Service. Through the Board, these agencies participate in the development of regulations for Subparts A, B, and C, which establish the program structure and determine which Alaska residents are eligible to take specific species for subsistence uses, and the annual Subpart D regulations, which establish seasons, harvest limits, and methods and means for subsistence take of species in specific areas. Subpart D regulations for the 2001 fishing seasons, harvest limits, and methods and means were published on February 13, 2001, (66 FR 10142). Because this rule relates to public lands managed by an agency or agencies in both the Departments of Agriculture and the Interior, identical closures and adjustments would apply to 36 CFR part 242 and 50 CFR part 100.

The Alaska Department of Fish and Game (ADF&G), under the direction of the Alaska Board of Fisheries (BOF), manages sport, commercial, personal use, and State subsistence harvest on all lands and waters throughout Alaska. However, on Federal lands and waters, the Federal Subsistence Board implements a subsistence priority for rural residents as provided by Title VIII of ANILCA. In providing this priority, the Board may, when necessary, preempt State harvest regulations for fish or wildlife on Federal lands and waters.

These emergency closures (restricted subsistence fishing schedules) and adjustments are necessary because of predictions of extremely weak returns of chinook, summer-run chum, and fall-run chum salmon in the Yukon River drainage. These emergency actions are authorized and in accordance with 50 CFR 100.19(d) and 36 CFR 242.19(d).

Yukon River Drainage

It now appears that returns of chinook, summer, and fall chum salmon to the Yukon River in 2001 have been at or slightly larger than the record lows of 2000. Very low catches of chinook and chum salmon were reported by many subsistence fishermen in 2000. Chinook and summer chum salmon escapement monitoring projects in 2000 showed that the returns of these species were very weak throughout most of the Yukon River drainage. Federal and State Managers and most subsistence users in the region have had strong concerns that not enough chinook or summer chum salmon would reach their spawning grounds in 2001. There were similar concerns that subsistence needs in some areas would not be met.

At their January 2001 meeting, the BOF identified the Yukon River chinook and chum salmon as stocks of concern and for the first time implemented a reduced subsistence fishing schedule to decrease confusion among users, increase the quality of escapement, spread the harvest throughout the run, and spread subsistence opportunity among users. In addition, ADF&G has indicated that any commercial fishing periods were highly unlikely for the Yukon River and that they would close the sport fishery for chinook salmon if the runs were weak. The ADF&G biologists and U.S. Fish & Wildlife Service personnel conducted public meetings, produced information posters, and published news articles to let the local users know about concerns regarding the expected low salmon returns and advised them regarding the restrictions and closures to protect spawning escapement.

Overall, both the chinook and summer chum salmon runs were assessed to be low in abundance. Restrictions in fishing time were initially implemented in District 1 and moved upriver sequentially to conserve both chinook and summer chum salmon. When it was determined the summer chum salmon return would not meet a population size of 600,000 fish, gear restrictions were implemented in District 1 on July 5, and also implemented sequentially upriver, to prohibit directed summer chum salmon harvest.

The chinook salmon run now appears to be a little better than last year. The restricted subsistence fishing schedule successfully increased the quality of the escapement, spread the harvest throughout the run and spread subsistence harvest opportunity among users in the lower, middle and upper Yukon River. Subsistence salmon fishing time was restricted throughout the drainage to conserve chinook salmon. Subsistence catch reports have been variable with success rates ranging from very good to poor. It appears that most individuals who tried, were able to meet their subsistence needs for chinook salmon, while some individuals were unable to meet their needs for chum salmon.

Early in the fall chum salmon season, there was great concern that this stock would not attain the minimum escapement goal. The poor outlook predicting a weak fall chum salmon run was based on the performance of the this years summer chum run and the realization that the trend of poor salmon production could continue for this year's fall season. The initial evaluation of all available information for fall chum salmon indicated that this year's run would likely be less than the 350,000 fish minimum. Since this projection was near or below the established drainage-wide goal, the management plan dictates that no directed subsistence harvest of fall chum salmon would be allowed.

Subsistence fishing for whitefish, suckers and other non-salmon species was allowed 7 days per week wherever possible.

On May 10, 2001, in public forum and after hearing testimony, the Federal Subsistence Board adopted an emergency action closing the chinook and summer chum salmon fishery on all Federal waters in the Yukon River drainage for 60 days (the maximum amount of time allowed under 50 CFR 100.19(d) and 36 CFR 242.19(d)) from June 1, 2001, to July 30, 2001, to all users except those Federally-qualified subsistence users 2001 (66 FR 32750, June 18, 2001). (First action.)

The Board also suspended the chinook salmon fin-marking restriction for subsistence users since there was no commercial harvest that subsistence-caught fish could blend into. (Second action.)

On May 31, 2001, the Federal Subsistence Board, acting through the delegated field official and in concert with ADF&G managers initiated a set of closures on Federal waters in Districts 1-3 of the Yukon River drainage for the subsistence fisheries (66 FR 33642, June 25, 2001). In Districts 1-3 the take of salmon was closed except for two 36-hour periods each week. (Third action.)

On June 12, 2001, the Federal Subsistence Board, acting through the delegated field official and in concert with ADF&G managers initiated gillnet restrictions on Federal waters in Districts 1-3 of the Yukon River drainage for the subsistence fisheries. These restrictions to nets with 4-inch or less stretched measure mesh and 60 feet or less in length allowed subsistence users to continue to subsistence fish for non-salmon species while still conserving salmon. (Fourth action.)

On June 13, 2001, the Federal Subsistence Board, acting through the delegated field official and in concert with ADF&G managers initiated a set of closures on Federal waters in District 4 of the Yukon River drainage for the subsistence fisheries. In District 4, the take of salmon was closed except for two 48-hour periods each week. (Fifth action.)

On June 19, 2001, the Federal Subsistence Board, acting through the delegated field official and in concert with ADF&G managers initiated a set of closures on Federal waters in the Coastal District and Districts 1-3 of the Yukon River drainage for the subsistence fisheries. In the Coastal District, the take of salmon was closed except for one 96-hour period each week. In Districts 1-3 the take of salmon was closed except for two 24-hour periods each week. (Sixth action.)

On June 22, 2001, the Federal Subsistence Board, acting through the delegated field official and in concert with ADF&G managers initiated a set of closures on Federal waters in District 5 of the Yukon River drainage for the subsistence fisheries. In District 5A, the take of salmon is closed except for two 42-hour periods each week. In District 5B and 5C, the take of salmon was closed except for two 48-hour periods each week. (Seventh action.)

On June 26, 2001, the Federal Subsistence Board, acting through the delegated field official and in concert with ADF&G managers extended the gillnet restrictions on Federal waters to District 4 of the Yukon River drainage for the subsistence fisheries. This restriction to nets with 4-inch or less stretched measure mesh and 60 feet or less in length allowed subsistence users to continue to subsistence fish for non-salmon species while still conserving salmon. (Eighth action.)

On June 28, 2001, the Federal Subsistence Board, acting through the delegated field official and in concert with ADF&G managers initiated a set of closures on Federal waters in Districts 1-3 of the Yukon River drainage for the subsistence fisheries. In Districts 1-3 the take of salmon was suspended for a single 24-hour period then returning to two 24-hour periods each week. (Ninth action.)

On July 1, 2001, the Federal Subsistence Board, acting through the delegated field official and in concert with ADF&G managers initiated a set of closures on Federal waters in District 4 of the Yukon River drainage for the subsistence fisheries. In District 4, the take of salmon was closed except for two 36-hour periods each week. (Tenth action.)

On July 1, 2001, the Federal Subsistence Board, acting through the delegated field official and in concert with ADF&G managers extended the fishwheel and gillnet restrictions that were already in effect on Federal waters in Districts 1-4 to Subdistricts 5A, 5B, and 5C of the Yukon River drainage for the subsistence fisheries. This restriction to nets with 4-inch or less stretched measure mesh and 60 feet or less in length allowed subsistence users to continue to subsistence fish for non-salmon species while still conserving salmon. (Eleventh action.)

On July 4, 2001, the Federal Subsistence Board, acting through the delegated field official and in concert with ADF&G managers initiated a set of closures on Federal waters on the Koyukuk River drainage of the Yukon River drainage for the subsistence fisheries. In that area, the take of salmon was closed except for two 48-hour periods each week. (Twelfth action.)

On July 5, 2001, the Federal Subsistence Board, acting through the delegated field official and in concert with ADF&G managers initiated a set of closures on Federal waters in Districts 1-3 of the Yukon River drainage for the subsistence fisheries. In Districts 1-3 the take of salmon was closed except for one 24-hour period each week and gillnets are restricted to mesh size 8 inches or larger. (Thirteenth action.)

On July 8, 2001, the Federal Subsistence Board, acting through the delegated field official and in concert with ADF&G managers extended the fishwheel and gillnet restrictions on Federal waters to District 4, including the Koyukuk River drainage, of the Yukon River drainage for the subsistence fisheries. This restriction to nets with 4-inch or less stretched measure mesh and 60 feet or less in length seven days per week and nets with 8-inch or greater stretched measure mesh during salmon openings allowed subsistence users to continue to subsistence fish while still conserving chum salmon. (Fourteenth action.)

On July 10, 2001, the Federal Subsistence Board, acting through the delegated field official and in concert with ADF&G managers initiated a set of closures on Federal waters in District 5 of the Yukon River drainage for the subsistence fisheries. In Subdistricts 5B and 5C, the take of salmon was closed except for two 36-hour periods each week. (Fifteenth action.)

On July 13, 2001, the Federal Subsistence Board, acting through the delegated field official and in concert with ADF&G managers initiated a set of closures on Federal waters in District 5 of the Yukon River drainage for the subsistence fisheries. In District 5A, the take of salmon was closed except for two 36-hour periods each week. In District 5D, the take of salmon was closed except for two 48-hour periods each week. Non-salmon gillnet restrictions were also extended to Subdistricts 5A and 5D during closed salmon fishing periods. (Sixteenth action.)

On July 20, 2001, the Federal Subsistence Board, acting through the delegated field official and in concert with ADF&G managers closed all Federal waters in Districts 1-3 of the Yukon River drainage for the subsistence salmon fisheries in order to conserve fall-run chum salmon. (Seventeenth action.)

On July 20, 2001, the Federal Subsistence Board, acting through the delegated field official and in concert with ADF&G managers relaxed restrictions on Federal waters in Subdistrict 5A of the Yukon River drainage for the subsistence fisheries. In Subdistrict 5A, the take of salmon was reopened for two 42-hour periods each week. (Eighteenth action.)

On July 29, 2001, the Federal Subsistence Board, acting through the delegated field official and in concert with ADF&G managers closed all Federal waters in District 4, including the Koyukuk River drainage, of the Yukon River drainage for the subsistence salmon fisheries in order to conserve fall-run chum salmon. (Nineteenth action.)

On July 27, 2001, the Federal Subsistence Board, acting through the delegated field official, removed the restriction on the harvest of chinook salmon by non-Federally-qualified users on all Federal waters in the Yukon River drainage. This action was based on larger than expected chinook runs which met both the spawning escapement and subsistence user needs. (Twentieth action.)

On August 2, 2001, the Federal Subsistence Board, acting through the delegated field official and in concert with ADF&G managers closed salmon fishing in all Federal waters in Subdistricts 5A, B, and C and liberalized salmon fishing in Subdistrict 5D of the Yukon River drainage in order to conserve fall-run chum salmon and still provide an opportunity to take chinook salmon. (Twenty-first action.)

On August 6, 2001, the Federal Subsistence Board, acting through the delegated field official closed fall-run chum salmon fishing to all non-Federally qualified users in all Federal waters of the Yukon River drainage in order to conserve fall-run chum salmon and yet provide a limited subsistence harvest opportunity. (Twenty-second action.)

On August 6, 2001, the Federal Subsistence Board, acting through the delegated field official and in concert with ADF&G managers established a subsistence fishing schedule for Districts 1-4 and Subdistricts 5B and 5C of the Yukon River drainage in order to conserve fall-run chum salmon. (Twenty-third action.)

On August 8, 2001, the Federal Subsistence Board, acting through the delegated field official and in concert with ADF&G managers increased the fishing periods in the subsistence fishing schedule for Districts 1-4 and Subdistricts 5B and 5C of the Yukon River drainage in order to provide greater harvest opportunities based on larger run projections. (Twenty-fourth action.)

On August 9, 2001, the Federal Subsistence Board, acting through the delegated field official and in concert with ADF&G managers reinstated gillnet restrictions on Federal waters in Subdistrict 5A of the Yukon River drainage for the subsistence fisheries. This restriction to nets with 4-inch or less stretched measure mesh and 60 feet or less in length seven days per week allowed subsistence users to continue to subsistence fish while still conserving chum salmon. (Twenty-fifth action.)

On August 10, 2001, the Federal Subsistence Board, acting through the delegated field, removed the restriction on the harvest of chum salmon by non-Federally-qualified users on all Federal waters in the Yukon River drainage. This action was predicated on larger than expected chum runs which met both the spawning escapement and subsistence user needs. (Twenty-sixth action.)

On August 20, 2001, the Federal Subsistence Board, acting through the delegated field official and in concert with ADF&G managers removed the gear restrictions for non-salmon species in Subdistricts 5A and 6A of the Yukon River drainage and opened those areas to the harvest of salmon. This action was predicated on continuing larger than expected chum runs which met both the spawning escapement and subsistence user needs. (Twenty-seventh action.)

On September 10, 2001, the Federal Subsistence Board, acting through the delegated field official and in concert with ADF&G managers modified the subsistence fishing schedule and required the use of liveboxes on fishwheels on Federal waters in Subdistrict 5A of the Yukon River drainage for the subsistence fisheries. This restriction allowed subsistence users to harvest coho salmon while while still conserving chum salmon. (Twenty-eighth action.)

These regulatory actions were necessary to assure the continued viability of the chinook and chum salmon runs and provide a long-term subsistence priority during a period of limited harvest opportunity. These reduced subsistence fishing schedules brought the Federal subsistence fishing regulations in line with the similar ADF&G action for unified management and minimized confusion under the dual management system.

The Board finds that additional public notice and comment requirements under the Administrative Procedure Act (APA) for these emergency closures are impracticable, unnecessary, and contrary to the public interest. Lack of appropriate and immediate conservation measures could seriously affect the continued viability of fish populations, adversely impact future subsistence opportunities for rural Alaskans, and would generally fail to serve the overall public interest. Therefore, the Board finds good cause pursuant to 5 U.S.C. 553(b)(3)(B) to waive additional public notice and comment procedures prior to implementation of these actions and pursuant to 5 U.S.C. 553(d) to make this rule effective as indicated in the DATES and the beginning of the SUPPLEMENTARY INFORMATION sections.

Conformance With Statutory and Regulatory Authorities

National Environmental Policy Act Compliance

A Final Environmental Impact Statement (FEIS) was published on February 28, 1992, and a Record of Decision on Subsistence Management for Federal Public Lands in Alaska (ROD) signed April 6, 1992. The final rule for Subsistence Management Regulations for Public Lands in Alaska, Subparts A, B, and C (57 FR 22940-22964, published May 29, 1992) implemented the Federal Subsistence Management Program and included a framework for an annual cycle for subsistence hunting and fishing regulations. A final rule that redefined the jurisdiction of the Federal Subsistence Management Program to include waters subject to the subsistence priority was published on January 8, 1999, (64 FR 1276.)

Compliance With Section 810 of ANILCA

The intent of all Federal subsistence regulations is to accord subsistence uses of fish and wildlife on public lands a priority over the taking of fish and wildlife on such lands for other purposes, unless restriction is necessary to conserve healthy fish and wildlife populations. A Section 810 analysis was completed as part of the FEIS process. The final Section 810 analysis determination appeared in the April 6, 1992, ROD which concluded that the Federal Subsistence Management Program, under Alternative IV with an annual process for setting hunting and fishing regulations, may have some local impacts on subsistence uses, but the program is not likely to significantly restrict subsistence uses.

Paperwork Reduction Act

The adjustment and emergency closures do not contain information collection requirements subject to Office of Management and Budget (OMB) approval under the Paperwork Reduction Act of 1995.

Other Requirements

The adjustment and emergency closures have been exempted from OMB review under Executive Order 12866.

The Regulatory Flexibility Act of 1980 (5 U.S.C. 601 et seq.) requires preparation of flexibility analyses for rules that will have a significant effect on a substantial number of small entities, which include small businesses, organizations, or governmental jurisdictions. The exact number of businesses and the amount of trade that will result from this Federal land-related activity is unknown. The aggregate effect is an insignificant economic effect (both positive and negative) on a small number of small entities supporting subsistence activities, such as boat, fishing gear, and gasoline dealers. The number of small entities affected is unknown; but, the effects will be seasonally and geographically-limited in nature and will likely not be significant. The Departments certify that the adjustment and emergency closures will not have a significant economic effect on a substantial number of small entities within the meaning of the Regulatory Flexibility Act.

Title VIII of ANILCA requires the Secretaries to administer a subsistence preference on public lands. The scope of this program is limited by definition to certain public lands. Likewise, the adjustment and emergency closures have no potential takings of private property implications as defined by Executive Order 12630.

The Service has determined and certifies pursuant to the Unfunded Mandates Reform Act, 2 U.S.C. 1502 et seq., that the adjustment and emergency closures will not impose a cost of $100 million or more in any given year on local or State governments or private entities. The implementation is by Federal agencies, and no cost is involved to any State or local entities or Tribal governments.

The Service has determined that the adjustment and emergency closures meet the applicable standards provided in Sections 3(a) and 3(b)(2) of Executive Order 12988, regarding civil justice reform.

In accordance with Executive Order 13132, the adjustment and emergency closures do not have sufficient federalism implications to warrant the preparation of a Federalism Assessment. Title VIII of ANILCA precludes the State from exercising management authority over fish and wildlife resources on Federal lands. Cooperative salmon run assessment efforts with ADF&G will continue.

In accordance with the President's memorandum of April 29, 1994, “Government-to-Government Relations with Native American Tribal Governments” (59 FR 22951), Executive Order 13175, and 512 DM 2, we have evaluated possible effects on Federally recognized Indian tribes and have determined that there are no effects. The Bureau of Indian Affairs is a participating agency in this rulemaking.

On May 18, 2001, the President issued Executive Order 13211 on regulations that significantly affect energy supply, distribution, or use. This Executive Order requires agencies to prepare Statements of Energy Effects when undertaking certain actions. As these actions are not expected to significantly affect energy supply, distribution, or use, they are not significant energy actions and no Statement of Energy Effects is required.

Drafting Information

William Knauer drafted this document under the guidance of Thomas H. Boyd, of the Office of Subsistence Management, Alaska Regional Office, U.S. Fish and Wildlife Service, Anchorage, Alaska. Taylor Brelsford, Alaska State Office, Bureau of Land Management; Rod Simmons, Alaska Regional Office, U.S. Fish and Wildlife Service; Bob Gerhard, Alaska Regional Office, National Park Service; Ida Hildebrand, Alaska Regional Office, Bureau of Indian Affairs; and Ken Thompson, USDA-Forest Service, provided additional guidance.

Authority: 16 U.S.C. 3, 472, 551, 668dd, 3101-3126; 18 U.S.C. 3551-3586; 43 U.S.C. 1733.

Dated: October 4, 2001.
Kenneth E. Thompson,
Subsistence Program Leader, USDA—Forest Service.

Thomas H. Boyd,
Acting Chair, Federal Subsistence Board.

[FR Doc. 01-27343 Filed 10-31-01; 8:45 am]

BILLING CODE 3410-11-P; 4310-55-P